COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes services from the Procurement List previously provided by such agencies.

DATES: Effective Date: 5/12/2014.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 2/7/2014 (79 FR 7428), the Committee for Purchase From People Who Are Blind or Severely Disabled published notice of proposed additions to the Procurement List.

After consideration of the material presented to it concerning capability of qualified nonprofit agencies to provide the services and impact of the additions on the current or most recent contractors, the Committee has determined that the services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 8501-8506) in connection with the services proposed for addition to the Procurement List.

End of Certification

Accordingly, the following services are added to the Procurement List:

Services

Service Type/Location: Janitorial Service, Department of Homeland Security (DHS), Immigration and Customs Enforcement (ICE), Executive Office for Immigration Review, Oakdale Service Processing Center, 1010 East Whatley Road, Oakdale, LA

NPA: Calcasieu Association for Retarded Citizens, Inc., Lake Charles, LA

Contracting Activity: DEPT OF HOMELAND SECURITY, U.S. IMMIGRATION AND CUSTOMS ENFORCEMENT, COMPLIANCE & REMOVALS, WASHINGTON, DC

Service Type/Location: Furniture Design and Configuration Service, Pennsylvania National Guard, 1167 Utility Road, Fort Indiantown Gap, PA.

NPA: Industries for the Blind, Inc., West Allis, WI

Contracting Activity: DEPT OF THE ARMY, W7NX USPFO ACTIVITY PA ARNG, ANNVILLE, PA

Deletions

On 2/28/2014 (79 FR 11422-11423), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type/Location: Janitorial/Custodial Service, Department of Veterans Affairs: Community Based Outpatient Clinic, 165 E. Apple Avenue, Muskegon, MI

NPA: Goodwill Industries of West Michigan, Inc., Muskegon, MI

Contracting Activity: DEPARTMENT OF VETERANS AFFAIRS, 515-BATTLE CREEK, BATTLE CREEK, MI

Service Type/Location: Janitorial/Custodial Service, U.S. Army Reserve Center, 9225 Peebles Road North Hills, Allison Park, PA

NPA: Life'sWork of Western PA, Pittsburgh, PA

Contracting Activity: DEPT OF THE ARMY, W6QM MICC CTR-FT DIX (RC), FORT DIX, NJ

Barry S. Lineback,
Director, Business Operations.

[FR Doc. 2014-08153 Filed 4-10-14; 8:45 am]

BILLING CODE 6353-01-P